DEPARTMENT OF ENERGY

Federal Energy Regulatory Commission

[Project No. 14592-000]

Belton Power, LLC; Notice of Preliminary Permit Application Accepted for Filing and Soliciting Comments, Motions To Intervene, and Competing Applications

On February 28, 2014, Belton Power, LLC filed an application for a preliminary permit, pursuant to section 4(f) of the Federal Power Act, proposing to study the feasibility of a Hydroelectric Project to be located at the U.S. Army Corps of Engineers (Corps) Belton Dam on the Leon River in Bell County, Texas. The sole purpose of a preliminary permit, if issued, is to grant the permit holder priority to file a license application during the permit term. A preliminary permit does not authorize the permit holder to perform any land disturbing activities or otherwise enter upon lands or waters owned by others without the owners' express permission.

The proposed project would consist of the following: (1) Five 300-foot-long, 48-inch-diameter steel penstocks each housing an inline generating unit for a total capacity of 6 megawatts; (2) five 50-foot-long, 48-inch-wide tailraces on a 66-foot-long, 50-foot-wide concrete foundation downstream of the dam; (3) a switchyard on the surface of the south bank of the dam; and (4) a 1-mile-long, 12.5 kilovolt transmission line. The proposed project would have an estimated average annual generation of 20,000 megawatt-hours and operate as directed by the Corps.

Applicant Contact: Mr. Magnús Jóhannesson, America renewables Power, LLC, 46 Peninsula Center, Ste. E, Rolling Hills Estates, CA 90274, phone 310-699-6400

FERC Contact: Christiane Casey, phone: (202) 502-8577, email christiane.casey@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14592-000.

More information about this project, including a copy of the application, can be viewed or printed on the “eLibrary” link of Commission's Web site at http://www.ferc.gov/docs-filing/elibrary.asp. Enter the docket number (P-14592) in the docket number field to access the document. For assistance, contact FERC Online Support.

Dated: October 1, 2014.
Kimberly D. Bose,
Secretary.

[FR Doc. 2014-23883 Filed 10-6-14; 8:45 am]

BILLING CODE 6717-01-P